DEPARTMENT OF THE INTERIOR

Bureau of Reclamation

Water Transfer Program for the San Joaquin River Exchange Contractors Water Authority, 2005 to 2014

AGENCY: Bureau of Reclamation, Interior.

ACTION: Notice of intent to prepare an environmental impact statement/environmental impact report (EIS/EIR) and notice of scoping meeting.

SUMMARY: Pursuant to the National Environmental Policy Act (NEPA) and the California Environmental Quality Act (CEQA), the Bureau of Reclamation (Reclamation) and the San Joaquin River Exchange Contractors Water Authority (Exchange Contractors) propose to prepare a joint EIS/EIR for a 10-year water transfer program. The program would consist of the transfer of up to 130,000 acre-feet of substitute water (maximum of 80,000 acre-feet of developed water and a maximum of 50,000 acre-feet from land fallowing) from the Exchange Contractors to other Central Valley Project (CVP) contractors, to Reclamation for delivery to the San Joaquin Valley wetland habitat areas (wildlife refuges), and/or to Reclamation and/or the Department of Water Resources (DWR) for use by the CALFED Environmental Water Account (EWA) as replacement water for CVP contractors. Reclamation would approve and/or execute short-term and/or long-term temporary water transfers or agreements

DATES: A public scoping meeting will be held on November 18, 2003 at 6 p.m. in Los Banos, California.

Written comments on the scope of the EIS/EIR should be mailed to Mr. Bob Eckart at the address below by November 25, 2003.

ADDRESSES: The public scoping meeting will be held at the San Joaquin Exchange Contractors Board Room, 541 H Street, Los Banos, CA 93635.

Written comments on the scope of the EIS/EIR should be sent to Bureau of Reclamation, Mid-Pacific Region, Division of Environmental Affairs, Attention: Mr. Bob Eckart, 2800 Cottage Way, Sacramento, California 95825.

FOR FURTHER INFORMATION CONTACT: Mr. Bob Eckart at the above address or by calling (916) 978-5051.

SUPPLEMENTARY INFORMATION: The objective of the proposed 10-year transfer program is the transfer of CVP water from the Exchange Contractors to:

• Other CVP contractors to meet demands of agriculture, municipal, and industrial uses,

• the Department of the Interior's Water Acquisition Program for delivery to the San Joaquin Valley Federal, state, and private wildlife refuges, and/or

• Reclamation or DWR for use by the CALFED EWA Program to benefit CVP operations by providing replacement water to CVP contractors.

The Exchange Contractor's proposed water transfer program would assist Reclamation in optimizing the use of limited existing water resources for agriculture, fish and wildlife resources, and municipal and industrial purposes. CVP water would be transferred to other CVP contractors to support the production of agricultural crops and livestock. Also, the Santa Clara Valley Water District is in need of short-term water supplies to support agriculture, municipal, and industrial uses in Santa Clara County. Reclamation's Water Acquisition Program needs additional water to provide the refuges with the increment between Level 2 and Level 4 water quantities for fish and wildlife habitat development. Reclamation or DWR may also need to acquire additional CVP water south of the Delta to replace water used for fish protection actions pursuant to CALFED's EWA Program (for the benefit of the CVP).

The water transfers would occur largely within the San Joaquin Valley of central California. The Exchange Contractors service area covers parts of Fresno, Madera, Merced, and Stanislaus counties. The agricultural water users that would benefit from the potential transfers are located in the counties of Stanislaus, San Joaquin, Merced, Madera, Fresno, San Benito, Santa Clara, Tulare, Kings, and Kern. The wetland habitat areas that may receive the water are located in Merced, Fresno, Kings, Tulare, and Kern counties. Water purchased for use by Reclamation or DWR for the EWA may be provided to CVP contractors in the West San Joaquin and San Felipe divisions to replace water bypassed at Tracy Pumping Plant pursuant to EWA fish protection actions.

Some of the resources potentially affected by transfers under the proposed 10-year transfer program include: surface water, groundwater, biological resources (vegetation, wildlife, and fisheries), land use (including agriculture), socioeconomics, Indian Trust Assets, and environmental justice.

It is Reclamation's practice to make comments, including names and home addresses of respondents, available for public review. Individual respondents may request that we withhold their home addresses from public disclosure, which we will honor to the extent allowable by law. There may also be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: September 19, 2003 .
Frank Michny,
Regional Environmental Officer, Mid-Pacific Region.

[FR Doc. 03-26468 Filed 10-20-03; 8:45 am]

BILLING CODE 4310-MN-P